DEPARTMENT OF HOUSING AND URBAN DEVELOPMENT

[Docket No. FR-5515-D-01]

Delegation of Authority for the Office of Congressional and Intergovernmental Relations

AGENCY: Office of the Secretary, HUD.

ACTION: Notice of delegation of authority.

SUMMARY: In this notice, the Secretary of HUD delegates authority to the Assistant Secretary of Congressional and Intergovernmental Relations and supersedes any prior delegation of authority from the Secretary to the Assistant Secretary for Congressional and Intergovernmental Relations.

DATES: Effective Date: September 30, 2011.

FOR FURTHER INFORMATION CONTACT: Aida N. Rodriguez, Office of Congressional and Intergovernmental Relations, Department of Housing and Urban Development, 451 7th Street, SW., Room 10120, Washington, DC 20410-6000, telephone number 202-708-0005. (This is not a toll-free number.) Persons with hearing or speech impairments may access this number through TTY by calling the toll-free Federal Relay Service at 1-800-877-8339.

SUPPLEMENTARY INFORMATION:

Section A. Authority Delegated

The Secretary hereby delegates to the Assistant Secretary for Congressional and Intergovernmental Relations authority and responsibility for coordinating congressional and intergovernmental relations activities. In carrying out these responsibilities, the Assistant Secretary for Congressional and Intergovernmental Relations shall, among other duties:

1. Direct and coordinate all matters, except for appropriations matters (which will be conducted by the Office of the Chief Financial Officer in coordination with the Office of Congressional and Intergovernmental Relations), regarding HUD's relationships with the Congress, congressional committees, and individual members of Congress;

2. Maintain liaison with Congress, the White House, and the Office of Management and Budget on legislative matters of concern to HUD;

3. Provide advice to HUD principals and other HUD officials on views on legislation of interest to HUD and recommend strategies on developing or pursuing legislation of interest to HUD;

4. Coordinate and ensure HUD's responsiveness to congressional inquiries and requests for information, reports, or other assistance, such as technical drafting services; and

5. Coordinate all matters involving intergovernmental relations, including state and local government relations.

Section B. Authority Excepted

The authority delegated in this document does not include the authority to sue or be sued.

Section C. Authority To Redelegate

The Assistant Secretary for Congressional and Intergovernmental Relations is authorized to redelegate to employees of HUD any of the authority delegated under Section A.

Section D. Authority Superseded

This delegation supersedes all previous delegations of authority from the Secretary to the Assistant Secretary for Congressional and Intergovernmental Relations.

Authority: Section 7(d), Department of Housing and Urban Development Act (42 U.S.C. 3535(d)).

Dated: September 30, 2011.
Shaun Donovan,
Secretary.

[FR Doc. 2011-26053 Filed 10-6-11; 8:45 am]

BILLING CODE 4210-67-P